DEPARTMENT OF THE INTERIOR

Fish and Wildlife Service

Notice of Availability of the Draft Comprehensive Conservation Plan and Environmental Assessment for Steigerwald Lake National Wildlife Refuge (NWR), Franz Lake NWR, and Pierce NWR for Review and Comment

AGENCY: Fish and Wildlife Service, Interior.

ACTION: Notice of availability.

SUMMARY: The U.S. Fish and Wildlife Service (Service) announces that a Draft Comprehensive Conservation Plan and Environmental Assessment (Draft CCP/EA) for Steigerwald Lake National Wildlife Refuge, Franz Lake National Wildlife Refuge, and Pierce National Wildlife Refuge, hereafter collectively called the Gorge Refuges, is available for review and comment. The Gorge Refuges are located on the Washington side of the Columbia River Gorge area. This Draft CCP/EA, prepared pursuant to the National Wildlife Refuge System Administration Act, as amended, and the National Environmental Policy Act of 1969 (NEPA), describes the Service's proposal for management of the Gorge Refuges over the next 15 years.

Also available for review with the Draft CCP/EA are draft compatibility determinations for several Refuge uses and a draft Fire Management Plan.

DATES: Written comments must be received at the address below by September 20, 2004.

ADDRESSES: Comments on the Draft CCP/EA should be addressed to: Project Leader, Ridgefield National Wildlife Refuge Complex, P.O. Box 457, Ridgefield, Washington 98642.

FOR MORE INFORMATION CONTACT: Project Leader, Ridgefield National Wildlife Refuge Complex, P.O. Box 457, Ridgefield, Washington, 98642, phone (360) 887-4106.

SUPPLEMENTARY INFORMATION: Copies of the Draft CCP/EA may be obtained by writing to U.S. Fish and Wildlife Service, Attn: Glenn Frederick, Pacific Northwest Planning Team, 16507 Roy Rogers Road, Sherwood, Oregon, 97140.

Copies of the Draft CCP/EA may be viewed at this address or at Ridgefield National Wildlife Refuge Complex, 301 North Third Avenue, Ridgefield, Washington.

Printed documents will also be available for review at the following libraries: Washougal Community Library, 1661 C Street, Washougal, WA 98671; Stevenson Community Library, 120 NW., Vancouver Ave., Stevenson, WA 98648; and Fort Vancouver Regional Library, 1007 East Mill Plain Blvd., Vancouver, WA 98663.

Background

The Gorge Refuges are located in Skamania and Clark Counties, Washington, in the Columbia River Gorge downstream of Bonneville Dam. The administrative center for the Gorge Refuges is the Ridgefield National Wildlife Refuge Complex, located in Ridgefield, Washington, approximately 25 miles northwest of Steigerwald Lake Refuge. Planning for the three Gorge Refuges occurred simultaneously for the purposes of this CCP because: The Refuges are located close to one another in the Columbia River floodplain; many of the same issues and management opportunities occur at all three Refuges, and they are part of the same lower Columbia River ecosystem.

The Gorge Refuges are part of the National Wildlife Refuge System administered by the Service. Wildlife conservation is the priority of National Wildlife Refuge System lands. The Gorge Refuges contribute to the conservation of fish, wildlife, plants, and native habitats of the lower Columbia River. Franz Lake Refuge contains the largest, most intact freshwater marsh remaining downstream of the Bonneville Dam. Steigerwald Lake Refuge provides habitat for migratory birds and other wildlife as mitigation for impacts resulting from the construction and generation of Federally funded and operated hydroelectric projects on the Columbia River and its tributaries. All three of the Refuges provide important spawning and rearing habitat for anadromous fish, including several species that are listed under or are candidates for listing under the Endangered Species Act.

Proposed Action

The Proposed Action is to adopt and implement a Comprehensive Conservation Plan that will provide the Refuge Manager with a 15-year management plan for the conservation of fish, wildlife, and plant resources and their related habitats, while providing opportunities for compatible wildlife-dependent recreational uses. While the Gorge Refuges are not currently open to the public, they have the potential to provide high-quality, compatible public uses in support of Refuge purposes and goals.

Alternatives

The Draft CCP/EA identifies and evaluates three alternatives for managing the Gorge Refuges over the next 15 years. Each alternative describes a combination of habitat and public use management prescriptions designed to achieve the Refuge purposes, goals, and vision. The Service prefers Alternative B because it best achieves Refuge purposes, vision, and goals; contributes to the Refuge System mission; addresses the substantive issues and relevant mandates; and is consistent with principles of sound fish and wildlife management. The alternatives are briefly described below, followed by a description of actions common to all of the alternatives.

Under Alternative A, the no action alternative, the Service would continue to protect, maintain, and, where feasible, restore habitat for priority species, including Canada geese, waterfowl, and Federal and State listed species. However, at current levels of funding and staff, these efforts would be inadequate to fulfill Refuge purposes and achieve Refuge goals. Under this alternative, as in Alternatives B and C, subject to the availability of appropriated funds, within the next 15 years the Gateway Center and interpretive trail at Steigerwald Lake Refuge, approved by the Service in 1999 but currently unfunded, would be constructed and opened to the public. In addition, the Service would implement its earlier decision to prohibit horseback riding, dog-walking, jogging and bicycling on the 0.6-mile section of the Columbia Dike Trail at Stiegerwald Lake Refuge. Opportunities for the public to attend special events and staff-led tours of the Refuges would continue. Pierce Refuge would continue to be available to local school groups for environmental education.

Alternative B, the preferred alternative, would focus refuge management on restoring and maintaining biological diversity with particular emphasis on the conservation targets identified in the CCP. Inventory, monitoring, and research would increase. Working with partners, the Service would seek to remove blockages to fish passage within the Gibbons Creek, Indian Mary Creek and Hardy Creek watersheds. The Service would participate in ongoing efforts to cleanup Gibbons Creek and to eliminate the threat of contaminated groundwater and stormwater runoff from entering Steigerwald Lake Refuge. Substantially more acres would be targeted for restoration under this Alternative than under Alternative A. Opportunities for wildlife viewing and photography and environmental education and interpretation would be increased. In addition to the current wildlife-dependent public uses of the Columbia Dike Trail, the Service would officially open the portion of the trail on Steigerwald Lake Refuge to horseback riding, jogging, bicycling, and leashed pets. The Refuge would increase the number of staff-led tours of the Refuges. We would partner with the city of North Bonneville to promote wildlife viewing from an existing public trail adjacent to Pierce Refuge. Environmental education would be enhanced through coordination with local school teachers and classroom visits.

Alternative C has many features in common with Alternative B. The primary difference is that under Alternative C, the Service would seek to restore more of the historic (pre-Bonneville Dam) vegetation cover. At Pierce Refuge, artificially created wetlands and open water habitat would be reduced and pastures eliminated. The amount of pasture at Steigerwald Lake Refuge would be reduced to the minimum needed to support wintering Canada geese. The maximum amount of oak restoration would occur under Alternative C. Partnerships would be developed to monitor water quality, remove or modify fish barriers, and control or eliminate noxious weed populations. A Research Natural Area would be established at Franz Lake Refuge. Public uses would be similar to those proposed in Alternative B, with the exceptions of the classroom visits, teacher workshops, and the wildlife viewing trail adjacent to Pierce Refuge. These public uses would not be developed under Alternative C.

Actions Common to All Alternatives

The following components are proposed to be continued or implemented under all three alternatives.

Steigerwald Lake NWR Gateway Center and Interpretive Trail. Subject to availability of appropriated funding, the Service would construct a Gateway Center and interpretive trail at Steigerwald Lake NWR, as described in the Service's EA and Finding of No Significant Impact signed in 1999. These facilities would serve an estimated 125,000 visitors annually.

Steigerwald Lake Feasibility Study. Acting under authority of Section 1135 of the Water Resources Act of 1986, the U.S. Army Corps of Engineers will direct the feasibility study phase of a project to reestablish hydrologic connections between the historic Steigerwald Lake, Columbia River, and Gibbons Creek.

Western Pond Turtle Program. The Washington Department of Fish and Wildlife will continue to release and monitor Western pond turtles on Pierce Refuge, and will also investigate the feasibility of introducing turtles to Steigerwald Lake Refuge.

Mosquito Management. The Service will consult and coordinate with local mosquito control districts to implement mosquito management on the Gorge Refuges. The objective will be to conduct a biologically sound program that maintains the ecological integrity of the Refuges while addressing legitimate human and fish and wildlife health concerns and complying with Service regulations and policy. The Skamania County Mosquito Control District will be allowed to monitor and treat mosquitoes at Franz Lake Refuge pursuant to the phased approach stipulated in the approved Compatibility Determination.

Public Comments

Public comments are requested, considered, and incorporated throughout the planning process in numerous ways. Public outreach has included public meetings with affected agencies and groups, planning update mailings, and Federal Register notices. After the review and comment period ends for this Draft CCP/EA, comments will be analyzed by the Service and addressed in revised planning documents.

All comments received from individuals, including names and addresses, become part of the official public record. Requests for such comments will be handled in accordance with the Freedom of Information Act, the Council on Environmental Quality's NEPA regulations 40 CFR 1506.6(f), and other Service and Departmental policies and procedures.

Dated: August 10, 2004.
William F. Shake,
Acting Regional Director, Region 1, Portland, Oregon.

[FR Doc. 04-19112 Filed 8-19-04; 8:45 am]

BILLING CODE 4310-55-P